ENVIRONMENTAL PROTECTION AGENCY

[EPA-HQ-OPP-2013-0001; FRL-9379-8]

SFIREG Full Committee; Notice of Public Meeting

AGENCY: Environmental Protection Agency (EPA).

ACTION: Notice.

SUMMARY: The Association of American Pesticide Control Officials (AAPCO)/State FIFRA Issues Research and Evaluation Group (SFIREG), Pesticide Operations and Management (POM) Committee will hold a 2-day meeting, beginning on April 22, 2013, and ending April 23, 2013. This notice announces the location and times for the meeting and sets forth the tentative agenda topics.

DATES: The meeting will be held on Monday, April 22, 2013, from 8:30 a.m. to 5 p.m. and 8:30 a.m. to noon on Tuesday, April 23, 2013.

To request accommodation of a disability, please contact the person listed under FOR FURTHER INFORMATON CONTACT, preferably at least 10 days prior to the meeting, to give EPA as much time as possible to process your request.

ADDRESSES: The meeting will be held at EPA, One Potomac Yard (South Bldg.), 2777 Crystal Dr., Arlington VA, 1st Floor South Conference Room.

FOR FURTHER INFORMATION CONTACT: Ron Kendall, Field External Affairs Division (7506P), Office of Pesticide Programs, Environmental Protection Agency, 1200 Pennsylvania Ave. NW., Washington, DC 20460-0001; telephone number: (703) 305-5561; fax number: (703) 305-5884; email address: kendall.ron@epa.gov. or Grier Stayton, SFIREG Executive Secretary, P.O. Box 466, Milford, DE 19963; telephone number: (302) 422-8152; fax (302) 422-2435; email address: aapco-sfireg@comcast.net.

SUPPLEMENTARY INFORMATION:

I. General Information

A. Does this action apply to me?

You may be potentially affected by this action if you are interested in pesticide regulation issues affecting States and any discussion between EPA and SFIREG on FIFRA field implementation issues related to human health, environmental exposure to pesticides, and insight into EPA's decision-making process. You are invited and encouraged to attend the meetings and participate as appropriate. Potentially affected entities may include, but are not limited to:

Those persons who are or may be required to conduct testing of chemical substances under the Federal Food, Drug, and Cosmetics Act (FFDCA), or the Federal Insecticide, Fungicide, and Rodenticide Act (FIFRA) and those who sell, distribute or use pesticides, as well as any non-government organization.

If you have any questions regarding the applicability of this action to a particular entity, consult the person listed under FOR FURTHER INFORMATION CONTACT.

B. How can I get copies of this document and other related information?

The docket for this action, identified by docket ID number EPA-HQ-OPP-2013-0001 is available at http://www.regulations.gov, or at the Office of Pesticide Programs Regulatory Public Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Tentative Agenda Topics

1. Bee Inspection Guidance.

2. Pesticide use/misuse in marijuana production activities that are legal under state law where the production occurs.

3. Insect Repellency Mark Update.

4. EPA's Drift Reduction Technology program.

5. National Pesticide Information Center reporting to State Lead Agency's (SLA's) when off label use is evident.

6. Status of the implementation of the Globally Harmonized System (GHS) for the OSHA Hazard Communication Standard (HCS) and potential impacts on FIFRA labeling.

7. Labeling biocide fracking fluid—the biocide working panel.

8. 25(b) proposed rule POM Comments.

9. Persistent Herbicides in Compost-Update on Lab Survey.

10. SLA enforcement cases relating to issues with non-crop terminology.

11. Report from Office of Civil Enforcement (OCE) on evidence collection pilot and revisions to guidelines.

12. Report from OCE on distributor label enforcement efforts.

13. 25(b) action plan—identifying OPP contact and coordination of SLA activity.

III. How can I request to participate in this meeting?

This meeting is open for the public to attend. You may attend the meeting without further notification.

List of Subjects

Environmental protection.

Dated: February 20, 2013.
Jay Ellenberger,
Acting Director, Field External Affairs Division, Office of Pesticide Programs.

[FR Doc. 2013-05093 Filed 3-5-13; 8:45 am]

BILLING CODE 6560-50-P